OFFICE OF PERSONNEL MANAGEMENT

Meeting of the Board of Actuaries of the Civil Service Retirement System

AGENCY: Office of Personnel Management.

ACTION: Notice of meeting.

SUMMARY: The Board of Actuaries of the Civil Service Retirement System plans to meet on Monday, June 16, 2025. The meeting will start at 10:00 a.m. EDT and will be held at the U.S. Office of Personnel Management (OPM), 1900 E Street NW, Washington, DC 20415. The purpose of the meeting is for the Board to review the actuarial methods and assumptions used in the valuations of the Civil Service Retirement and Disability Fund.

FOR FURTHER INFORMATION CONTACT: Gregory Kissel, Senior Actuary for Pension Programs, U.S. Office of Personnel Management, 1900 E Street NW, Room 4316, Washington, DC 20415, or by email to actuary@opm.gov.

SUPPLEMENTARY INFORMATION:

Agenda

1. Reconsideration of 9/30/2023 Postal Service FERS supplemental liability.

2. Review of assumptions for actuarial valuations as of 9/30/2024.

a. Demographic Assumptions.

b. Economic Assumptions.

Persons desiring to attend this meeting, or to make a statement for consideration at the meeting, should contact OPM at least 5 business days in advance of the meeting date at the address shown below. Any detailed information or analysis requested for the Board to consider should be submitted at least 15 business days in advance of the meeting date. The manner and time for any material presented to or considered by the Board may be limited.

For the Board of Actuaries.
Stephen Hickman,
Federal Register Liaison.

[FR Doc. 2025-08955 Filed 5-19-25; 8:45 am]

BILLING CODE 6325-63-P